Proclamation 10231 of June 30, 2021

50th Anniversary of the 26th Amendment

By the President of the United States of America

A Proclamation

Our Constitution recognizes that, as a Nation, we are constantly learning. Our Founders built that recognition into its original design, providing a mechanism to amend our Constitution as our Nation evolved. On July 1, 1971, our Nation ratified the 26th Amendment to the Constitution, lowering the voting age to 18. At the time, 18-, 19-, and 20-year-old Americans were fulfilling their civic duties: paying taxes, serving in our Armed Forces, acting as first responders, laboring in fields, factories, and service jobs across the country, and pursuing higher education. They were participating in our democracy and all of the responsibilities of citizenship in all ways except for one: they could not vote. A broad coalition, following in the footsteps of the suffragettes of the early 20th century and the civil rights activists of the 1960s, advocated, educated, and prevailed in persuading our Nation that those younger Americans were entitled to the right to vote. We also made a national commitment that the right to vote would never be denied or abridged for any adult voter based on their age.

My first race for the Senate was one of the first elections in which 18-year-olds could vote, and the energy and passion of Delaware's young people helped propel me to an unlikely victory.

Fifty years later, younger voters remain essential to our civic infrastructure. They are not only voting in our elections—including at record rates in 2020—but winning them. Younger Americans are lending their talent and vision to school boards, city councils, and county commissions; teenagers are serving as State legislators and mayors, and we are the better for it.

Younger voters are not waiting to inherit the future; they are building the future themselves. Young Americans have been on the front lines in the fight to defend the right to vote and expand access to the ballot box for all eligible voters. Their civic engagement extends beyond voting—with young Americans leading the calls for racial justice, climate action, gun violence prevention, and immigration reform among many other issues.

Despite the progress we have made, there remain persistent gaps in turnout between younger voters and their older counterparts. There is still more that we can and must do to deliver on the promise of the 26th Amendment. My Administration has made public service and civic education a priority, engaging younger Americans in our shared struggle for continual progress. I have directed Federal agencies to consider ways to make it easier to vote and to learn about voting, and to focus on the various ways that the Federal Government engages younger Americans, online and off. Today's youth are more diverse than past generations—and laws aimed at suppressing voter turnout in Black and Brown communities also impact young voters. My Administration supports the For the People Act and the John Lewis Voting Rights Advancement Act to protect the fundamental right to vote and make our democracy more equitable and accessible for all Americans.

Today, we honor the bipartisan expansion of voter enfranchisement. Let us continue our work to make the 26th Constitutional Amendment ever more meaningful in the months and years ahead.

NOW, THEREFORE, I, JOSEPH R. BIDEN JR., President of the United States of America, by virtue of the authority vested in me by the Constitution and the laws of the United States, do hereby proclaim July 1, 2021, as the 50th Anniversary of the 26th Amendment. I call upon all Americans to participate in ceremonies and activities that honor the 26th formal modification of our national Charter, that recognize the contributions made by voters enfranchised by its terms, and that work toward full participation of all who are eligible to vote.

IN WITNESS WHEREOF, I have hereunto set my hand this thirtieth day of June, in the year of our Lord two thousand twenty-one, and of the Independence of the United States of America the two hundred and forty-fifth.

[FR Doc. 2021-14497

Filed 7-2-21; 8:45 am]

Billing code 3295-F1-P